SMALL BUSINESS ADMINISTRATION

[Declaration of Disaster #3534]

State of Ohio (Amendment #1)

In accordance with a notice received from the Department of Homeland Security—Federal Emergency Management Agency, effective August 4, 2003, the above numbered declaration is hereby amended to include Carroll, Columbiana, Cuyahoga and Stark counties as disaster areas due to damages caused by tornadoes, flooding, severe storms and high winds occurring on July 21, 2003 and continuing.

In addition, applications for economic injury loans from small businesses located in the contiguous counties of Harrison, Holmes, Jefferson, Lake and Tuscarawas in the State of Ohio; Beaver County in the State of Pennsylvania; and Hancock County in the State of West Virginia may be filed until the specified date at the previously designated location. All other counties contiguous to the above named primary counties have been previously declared.

The number for economic injury for the State of West Virginia is 9W6700.

All other information remains the same, i.e., the deadline for filing applications for physical damage is September 30, 2003, and for economic injury the deadline is May 3, 2004.

(Catalog of Federal Domestic Assistance Program Nos. 59002 and 59008).

Dated: August 6, 2003.
Cheri L. Cannon,
Acting Associate Administrator for Disaster Assistance.

[FR Doc. 03-20519 Filed 8-11-03; 8:45 am]

BILLING CODE 8025-01-P